DEPARTMENT OF HEALTH AND HUMAN SERVICES

Announcement of First Meeting of the Secretary's Advisory Committee on National Health Promotion and Disease Prevention Objectives for 2020

AGENCY: Department of Health and Human Services, Office of the Secretary, Office of Public Health and Science, Office of Disease Prevention and Health Promotion.

ACTION: Notice of Meeting.

Authority: 42 U.S.C. 217a, Section 222 of the Public Health Service Act, as amended. The Committee is governed by the provision of Public Law 92-463, as amended (5 U.S.C. Appendix 2), which sets forth standards for the formation and use of advisory committees.

SUMMARY: The U.S. Department of Health and Human Services (HHS) announces the first in a series of federal advisory committee meetings regarding the national health promotion and disease prevention objectives for 2020 to be held in Washington, DC. These meetings will be open to the public. The Secretary's Advisory Committee on National Health Promotion and Disease Prevention Objectives for 2020 will review the nation's health promotion and disease prevention objectives and efforts to develop goals and objectives to improve the health status and reduce health risks for Americans by the year 2020. The Committee will provide to the Secretary of Health and Human Services advice and consultation for developing and implementing the next iteration of national health promotion and disease prevention goals and objectives and provide recommendations for initiatives to occur during the initial implementation phase of the goals and objectives. HHS will use the recommendations to inform the development of the national health promotion and disease prevention objectives for 2020 and the process for implementing the objectives. The intent is to develop and launch objectives designed to improve the health status and reduce health risks for Americans by the year 2020.

DATES: The Committee will meet for two days: January 31, 2008 from 9 a.m. until 5:30 p.m., and on February 1, 2008 from 8:30 a.m. until 5 p.m.

ADDRESSES: The meeting will be held at the U.S. Department of Health and Human Services, Hubert H. Humphrey Building, located at 200 Independence Avenue, SW., Room 800, Washington, DC 20201.

FOR FURTHER INFORMATION CONTACT: Emmeline Ochiai, Designated Federal Officer, Secretary's Advisory Committee on National Health Promotion and Disease Prevention Objectives for 2020, U.S. Department of Health and Human Services, Office of Public Health and Science, Office of Disease Prevention and Health Promotion, 1101 Wootton Parkway, Room LL-100, Rockville, MD 20852, (240) 453-8259 (telephone), (240) 453-8281 (fax). Additional information is available on the Internet at http://www.healthypeople.gov.

SUPPLEMENTARY INFORMATION: The names of the 13 members of the Secretary's Advisory Committee on National Health Promotion and Disease Prevention Objectives for 2020 are available at http://www.healthypeople.gov.

Purpose of Meeting: Every 10 years, through the Healthy People initiative, the U.S. Department of Health and Human Services (HHS) leverages scientific insights and lessons from the past decade, along with the new knowledge of current data, trends, and innovations to develop the next iteration of national health promotion and disease prevention objectives. Healthy People provides science-based, 10-year national objectives for promoting health and preventing disease. Since 1979, Healthy People has set and monitored national health objectives to meet a broad range of health needs, encourage collaborations across sectors, guide individuals toward making informed health decisions, and measure the impact of our prevention and health promotion activities. Healthy People 2020 will reflect assessments of major risks to health and wellness, changing public health priorities, and emerging technologies related to our nation's health preparedness and prevention.

Public Participation at Meeting: Members of the public are invited to observe the Advisory Committee meeting. Please note that there will be no opportunity for oral public comments during the initial Secretary's Advisory Committee on National Health Promotion and Disease Prevention Objectives for 2020 meeting, however, written comments are welcome throughout the development process of the national health promotion and disease prevention objectives for 2020 and may be e-mailed to HP2020@hhs.gov.

To observe the Committee meeting, individuals must pre-register to attend the Secretary's Advisory Committee on National Health Promotion and Disease Prevention Objectives for 2020 at the Healthy People Web site located at http://www.healthypeople.gov. Registrations must be completed by close of business Eastern Standard Time January 28, 2007. Space for the meeting is limited. Registrations will be accepted until maximum room capacity is reached. A waiting list will be maintained should registrations exceed room capacity. Individuals on the waiting list will be contacted as additional space for the meeting becomes available. On January 31 and February 1, 2008, registrants for the Secretary's Advisory Committee on National Health Promotion and Disease Prevention Objectives for 2020 meeting must present valid photo identification (i.e., driver's license) and should arrive 45 minutes prior to the start of the meeting to pass through security.

Registration questions may be directed to Hillary Scherer at HP2020@norc.org (e-mail), (301) 634-9374 (phone) or (301) 634-9301 (fax).

Dated: January 9, 2008.
Penelope Slade Royall,
RADM, USPHS, Deputy Assistant Secretary for Health (Disease Prevention and Health Promotion), Office of Disease Prevention and Health Promotion

[FR Doc. E8-572 Filed 1-14-08; 8:45 am]

BILLING CODE 4150-32-P